DEPARTMENT OF COMMERCE

National Oceanic and Atmospheric Administration

50 CFR Part 300

Docket No. 110620342-1340-02]

RIN 0648-BA66

International Fisheries; Pacific Tuna Fisheries; Recommendations Adopted by the Inter-American Tropical Tuna Commission

AGENCY: National Marine Fisheries Service (NMFS), National Oceanic and Atmospheric Administration (NOAA), Commerce.

ACTION: Advanced Notice of Proposed Rulemaking; request for comments.

SUMMARY: NMFS is requesting public comment on certain amendments under consideration for the regulations governing the longline and purse seine fisheries targeting tuna and tuna-like species in the eastern Pacific Ocean (EPO) to conform to recommendations adopted by the Inter-American Tropical Tuna Commission (IATTC). This rulemaking would be issued under authority of the Tuna Conventions Act of 1950. At its Eighty-first Meeting, held in September 2010, members of the IATTC adopted three recommendations. This ANPR discusses two of these decisions, the Recommendation on Tuna Conservation 2011-2013 (C-10-01) and the Recommendation Prohibiting Fishing on Data Buoys (C-10-03), which would require rulemaking to implement domestically.

DATES: Comments must be submitted in writing by July 27, 2011.

ADDRESSES: You may submit comments, identified by 0648-BA66, by any one of the following methods:

• Electronic Submissions: Submit all electronic public comments via the Federal eRulemaking Portal: http://www.regulations.gov.

• Fax: 562-980-4047, Attn: Heidi Hermsmeyer.

• Mail: Rodney R. McInnis, Regional Administrator, NMFS Southwest Regional Office (SWR), 501 W. Ocean Blvd., Suite 4200, Long Beach, CA 90802. Include the identifier “0648-BA66” in the comments.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Heidi Hermsmeyer, NMFS SWR, 562-980-4036.

SUPPLEMENTARY INFORMATION: At its Eighty-first Meeting, held in September 2010, members of the IATTC adopted the following three recommendations: (1) Recommendation on Tuna Conservation 2011-2013 (C-10-01); (2) Recommendation on Seabirds (C-10-02); and (3) Recommendation Prohibiting Fishing on Data Buoys (C-10-03). Recommendation C-10-02 established measures to mitigate the impact of the longline fishery on seabirds, which are similar to those in place in the Western and Central Pacific Fisheries Commission (WCPFC) Convention Area. The United States has domestic seabird conservation measures in place for U.S. longline fisheries that operate in the EPO that satisfy the recommendations adopted in Recommendation C-10-02, thus no additional regulatory action is required to implement this recommendation. The United States is considering amending regulations to implement IATTC Recommendations C-10-01 and C-10-03. While this is the preferred course of action at this time, the United States is also considering not amending the regulations currently in effect, which implement IATTC Resolution C-09-01, or removing those regulations. The United States is considering these alternatives because there has been some uncertainty regarding whether Resolution C-09-01 required ratification by the IATTC in 2010 to remain effective in 2011, and whether Recommendation C-10-01 replaced Resolution C-09-01 for all intents and purposes. All active resolutions and recommendations are available on the following IATTC Web site: http://www.iattc.org/ResolutionsActiveENG.htm.

Potential Changes to Tuna Conservation Measures for 2011-2013

The Recommendation on Tuna Conservation for 2011-2013 is very similar to the Resolution on a Multiannual Program for the Conservation of Tuna in the Eastern Pacific Ocean in 2009-2011 (IATTC Resolution C-09-01), which was adopted in 2009 by the IATTC. The United States implemented IATTC Resolution C-09-01 in November 2010 (74 FR 61046, November 23, 2009). Similar to Resolution C-09-01, the main objectives of Recommendation C-10-01 are to limit the fishing mortality of yellowfin tuna (Thunnus albacares) and to reduce the fishing mortality of bigeye tuna (Thunnus obesus) in the EPO. The measures are based in part on the recommendations and analysis of IATTC scientific staff and the 2010 stock assessments of bigeye and yellowfin tuna completed by IATTC staff. The differences between Recommendation C-10-01 and Resolution C-09-01 that are being considered for rulemaking are: (1) A change in the length of the closure period of the IATTC Convention Area for tuna purse seine vessels class sizes 4-6 (182 metric tons carrying capacity or greater) in 2011 from 73 days to 62 days and continuation of that closure period in 2012 and 2013; (2) continuation of the annual 500 metric ton bigeye tuna quota in the longline fishery for vessels over 24 meters in length from 2011-2013; and (3) renewal of the tuna retention program for 2011 that requires all bigeye, skipjack, and yellowfin tuna caught by a U.S. purse seine vessel of class sizes 4-6 (i.e., larger than 182 cubic meters carrying capacity) be retained on board and landed, except fish deemed unfit for human consumption for reasons other than size. The single exemption for this would be the final set of a trip, when there may be insufficient well space remaining to accommodate all the tuna caught in that set. Additionally, NMFS is considering giving vessel owners the option of choosing between the two possible purse seine closure periods that were established under IATTC Recommendation C-10-01 for each applicable year, rather than requiring the entire U.S. fleet to adhere to the later closure period as was done in 2009 and 2010. It appears that most, if not all, other members of the IATTC are implementing the closure period on a vessel-by-vessel basis since it provides fleets with greater flexibility. The two options would be July 29 to September 28, or November 18 to January 18 of the following year for 2011, 2012, and 2013.

Potential Prohibition on Fishing Around Data Buoys

The main objective of the Recommendation Prohibiting Fishing on Data Buoys is to stop vandalism and damage to data buoys from fishing vessels that often leads to loss of data critical to weather forecasting, tsunami warnings, search and rescue efforts, and research of the marine environment and that IATTC members expend time and resources to locate, replace, and repair data buoys damaged or lost by fishing methods or vandalism. Recommendation C-10-03 defines data buoys as floating devices, either drifting or anchored, that are deployed by governmental or recognized scientific organizations or entities for the purpose of electronically collecting environmental data, and not in support of fishing activities.

Recommendation C-10-03 urges members to prohibit fishing vessels from fishing within one nautical mile of, or interacting with, a data buoy in the EPO. A possible rulemaking action would: (1) Prohibit encircling a data buoy with fishing gear, tying up to or attaching the vessel, or any fishing gear, part or portion of the vessel, to a data buoy, and, if the buoy is anchored, cutting its anchor line; (2) prohibit fishing vessels from taking on board a data buoy, unless specifically authorized or requested to do so by a member or cooperating non-member of the IATTC or owner responsible for that buoy; (3) encourage fishing vessels operating in the EPO to keep watch for data buoys at sea and to take all reasonable measures to avoid fishing gear entanglement or directly interacting in any way with those data buoys; and (4) require fishing vessels that become entangled with a data buoy to remove the entangled fishing gear with as little damage to the data buoy as possible. However, any scientific research program would be allowed to operate fishing vessels within one nautical mile of a data buoy, provided the IATTC Secretariat is notified in advance about the operation and the fishing gear/vessel does not interact with a data buoy.

Executive Order 12866: This action has been determined to be not significant under EO 12866.

Authority: 16 U.S.C. 951 et seq.

Dated: June 30, 2011.
John Oliver,
Deputy Assistant Administrator for Operations, National Marine Fisheries Service.

[FR Doc. 2011-17079 Filed 7-6-11; 8:45 am]

BILLING CODE 3510-22-P